DEPARTMENT OF JUSTICE

Antitrust Division

Notice Pursuant to the National Cooperative Research and Production Act of 1993—Training & Readiness Accelerator II

Notice is hereby given that, on June 5, 2025, pursuant to section 6(a) of the National Cooperative Research and Production Act of 1993, 15 U.S.C. 4301 et seq. (“the Act”), Training & Readiness Accelerator II (“TReX II”) has filed written notifications simultaneously with the Attorney General and the Federal Trade Commission disclosing changes in its membership. The notifications were filed for the purpose of extending the Act's provisions limiting the recovery of antitrust plaintiffs to actual damages under specified circumstances. Specifically, Infiltron Software Suite LLC, Warner Robins, GA; Space Information Laboratories LLC, Santa Maria, CA; Duality Robotics, Inc., San Mateo, CA; Recon RF, Inc., San Diego, CA; Exponent, Inc., Menlo Park, CA; Oceanit Laboratories, Inc., Honolulu, HI; Bluedrop USA, Inc., Orlando, FL; Data Squared USA, Inc., Wilmington, DE; Park-Tours, Inc. dba Left Coast Engineering, Escondido, CA; System Dynamics International, Inc., Huntsville, AL; FRAUNHOFER USA, INC., Riverdale, MD; Gradient Marine, San Diego, CA; Taiga Ventures LLC, Chesterfield, MO; Genuen LLC, Lenexa, KS; Solers Research Group, Inc., Sanford, FL; Applied Research Solutions, Inc., Beavercreek, OH; T2S LLC, Belcamp, MD; Episensors, Inc., Bolingbrook, IL; Command and Control Technologies Corp., Titusville, FL; ATA Engineering, Inc., San Diego, CA; HY-SET LLC, Kennedale, TX; Air Space Intelligence Federal, Inc., Washington, DC; The Curators of the University of Missouri, Columbia, MO; Nightwing Intelligence Solutions LLC, Indialantic, FL; Covan Group, Fredericksburg, VA; Intelligent Training Innovations LLC, Doylestown, PA; Atmospheric & Space Technology Research Associates LLC dba Orion Space Solutions, Louisville, CO; Sensing Strategies, Inc., Pennington, NJ; HigherEchelon, Inc., Huntsville, AL; Bohemia Interactive Solutions, Inc., Orlando, FL; Herrick Technical Laboratories, Inc., Manchester, NH; Mission Driven Research, Inc., Huntsville, AL; The University of Tennessee Space Institute, Tullahoma, TN; 6th Dimension, Inc., Madison, AL; Space Coast Intelligent Solutions, Inc., Melbourne, FL; Anduril Industries, Inc., Costa Mesa, CA; SCATR Corp., Cleveland, OH; iGov Technologies, Inc., Tampa, FL; NextGen Federal Systems LLC, Morgantown, WV; Cougaar Software, Inc., Fairfax, VA; Training Center Pros dba EOD Gear, Franklin, TN; Defense Unicorns, Inc., Colorado Springs, CO; Discovery Machine, Inc., Williamsport, PA; Cloudera Government Solutions, Tysons, VA; Battle Road Digital, Inc., Meridian, ID; Phoenix Operations Group, Woodbine, MD; Torch Research LLC, Leawood, KS; MORSECORP, Inc., Cambridge, MA; Inhance Digital Corporation, Los Angeles, CA; Thompson Gray, Inc., Huntsville, AL; Design Interactive, Inc., Orlando, FL; Mantel Technologies, Inc., Fort Collins, CO; AI Strategy Corp, Babylon, NY; Exergi Predictive, Hugo, MN; Onebrief, Honolulu, HI; General Atomics Aeronautical Systems, Inc., Poway, CA; Synergistic, Inc., New Baltimore, MI; Dex Tech LLC, Blue Bell, PA; Vertex Solutions LLC, Niceville, FL; Ace Electronics Defense Systems LLC, Aberdeen, MD; and Credence Management Solutions LLC, McLean, VA, have been added as parties to this venture.

Also, Integrated Consultants, Inc., San Diego, CA; JackTech LLC, Washington, DC; JIRACOR LLC, Orlando, FL; Open Source Systems LLC, Suwanee, GA; Terida LLC, Pinehurst, NC; Symbiosis.io LLC, Smyrna, GA; Third Coast Federal, Inc., South Bend, IN; Technology Solution Providers, Inc., Reston, VA; VMware, Inc., Palo Alto, CA; NAG LLC dba NAG Marine, Norfolk, VA; Goldbelt Hawk LLC, Newport News, VA; Rocket Technology, Inc., Richmond, VA; Iron EagleX, Inc., Tampa, FL; BAE Systems Space & Mission Systems, Inc., Boulder, CO; Air-Quality Remote-Sensing Consulting LLC, Madison, AL; Applied Intuition, Inc., Mountain View, CA; Atlantic Diving Supply, Inc. dba ADS, Inc., Virginia Beach, VA; BCG Federal Corp., Bethesda, MD; Chimaera Science LLC dba Adaptive Immersion Technologies, Tampa, FL; Defense Unicorns, Inc., Colorado Springs, CO; Coherent Aerospace and Defense, Inc., Murrieta, CA; Concordia Technologies, Inc., Huntsville, AL; F3EA, Inc., Savannah, GA; Elcomm LLC, Sugar Hill, GA; Problem Solutions LLC, Johnstown, PA; Liberty Business Associates LLC, Ladson, SC; REDLattice, Inc., Chantilly, VA; Synertex LLC, Purcellville, VA; Wegmann USA, Inc., Lynchburg, VA; Vectrus Systems Corp., Colorado Springs, CO; The Pennsylvania State University—Applied Research Laboratory, University Park, PA; WaveLink, Inc., Huntsville, AL; Via Science, Inc., Somerville, MA; Wright Brothers Institute, Dayton, OH; Yulista Integrated Solutions LLC, Huntsville, AL; Torrey Pines Logic, Inc., San Diego, CA; Trex Enterprises Corp., El Cajon, CA; Tybram LLC, Jacksonville, FL; Response AI Solutions LLC, Great Falls, VA; Platform Systems, Inc. dba Platform Aerospace, Hollywood, MD; Sciumo, Inc., Odenton, MD; Semantic AI, Inc., San Diego, CA; Shearwater Technology, Inc., Washington, IL; SimIS, Inc., Portsmouth, VA; Snowflake, Inc., Bozeman, MT; Lukos LLC, Tampa, FL; Meroxa, Inc., San Jose, CA; Nebula Compute, Inc., Wilkes-Barre, PA; MICROWAVE APPLICATIONS GROUP, Santa Maria, CA; MORSECORP, Inc., Cambridge, MA; Quantum Ventura, Inc., San Jose, CA; Noble Supply & Logistics LLC, Boston, MA; IEC Infrared Systems LLC, Middleburg Heights, OH; Immobileyes, Inc., Kent, OH; Industrial Smoke & Mirrors, Inc., Orlando, FL; Inhance Digital Corp., Los Angeles, CA; JTEK Data Solutions LLC, Bethesda, MD; Kent Optronics, Inc., Hopewell Junction, NY; Kratos Unmanned Aerial Systems, Inc., Sacramento, CA; KRI at Northeastern University LLC, Burlington, MA; Kutta Technologies LLC, Phoenix, AZ; Electronics Service LLC, Great Mills, MD; Emelody Worldwide, Inc., Peachtree Corners, GA; EngeniusMicro, Huntsville, AL; Eoptic, Inc., Rochester, NY; Ether Form, Inc., McMinnville, OR; EWA Warrior Services LLC, Herndon, VA; GenXComm, Austin, TX; Dynepic, Inc., Reno, NV; CymSTAR LLC, Broken Arrow, OK; DAGER Technology LLC, Fairfax, VA; Compendium Federal Technology (CFT), Lexington Park, MD; Delta Development Team, Inc., Tucson, AZ; Cognitive Medical Systems, Inc., San Diego, CA; Belcan Government Solutions, Inc., Sterling, VA; Bishop Ascendant, Inc., Caldwell, NJ; BlueHalo Labs LLC, Albuquerque, NM; CACI, Inc.—Federal, Chantilly, VA; CDW Government LLC, Vernon Hills, IL; BAE Systems Technology Solutions & Services, Inc., Rockville, MD; Barbaricum LLC, Washington, DC; Adjacent Link LLC, Bridgewater, NJ; AI Strategy Corp, Babylon, NY; NTS Technical Systems LLC, Columbia, MO; and Park-Tours, Inc. dba Left Coast Engineering, Escondido, CA, have withdrawn as parties to this venture.

No other changes have been made in either the membership or planned activity of the group research project. Membership in this group research project remains open, and TReX II intends to file additional written notifications disclosing all changes in membership.

On February 17, 2023, TReX II filed its original notification pursuant to section 6(a) of the Act. The Department of Justice published a notice in the Federal Register pursuant to section 6(b) of the Act on June 13, 2023 (88 FR 38536).

The last notification was filed with the Department on February 7, 2025. A notice was published in the Federal Register pursuant to section 6(b) of the Act on March 7, 2025 (90 FR 11551).

Suzanne Morris,
Deputy Director Civil Enforcement Operations, Antitrust Division.

[FR Doc. 2025-15380 Filed 8-12-25; 8:45 am]

BILLING CODE P